DEPARTMENT OF COMMERCE

National Oceanic and Atmospheric Administration

RIN 0648-XF364

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet in May, in Juneau, AK.

DATES: The meeting will be held on Tuesday, May 2, 2017, from 9 a.m. to 5 p.m., on Wednesday, May 3, 2017, from 9 a.m. to 5 p.m., on Thursday, May 4, 2017, from 9 a.m. to 5 p.m., and on Friday, May 5, 2017, from 9 a.m. to 12 p.m.

ADDRESSES: The meeting will be held in the Federal building at 709 W. 9th Street, Juneau, AK 99802.

Council address: North Pacific Fishery Management Council, 605 W 4th Ave., Suite 306, Anchorage, AK 99501-2252; telephone: (907) 271-2809.

FOR FURTHER INFORMATION CONTACT: Diana Stram, Council staff; telephone: (907) 271-2809.

SUPPLEMENTARY INFORMATION:

Agenda

Tuesday, May 2, 2017, Through Friday, May 5, 2017

The agenda will include: (a) Final assessments for Western Aleutian Island Red King Crab, Pribilof Island Golden King Crab, and Aleutian Island Golden King Crab, (b) research priorities, (c) model scenarios for fall crab assessments, and (d) review BOF Tanner Crab harvest strategy and proposals.

Meeting materials will be made available on the Council Web site (www.npfmc.org) prior to the meeting.

Special Accommodations

These meetings are physically accessible to people with disabilities. Requests for sign language interpretation or other auxiliary aids should be directed to Shannon Gleason at (907) 271-2809 at least 7 working days prior to the meeting date.

Dated: April 12, 2017.
Jeffrey N. Lonergan,
Acting Deputy Director, Office of Sustainable Fisheries, National Marine Fisheries Service.

[FR Doc. 2017-07715 Filed 4-14-17; 8:45 am]

BILLING CODE 3510-22-P